DEPARTMENT OF EDUCATION

Office of Elementary and Secondary Education, Overview Information, Impact Aid Discretionary Construction Program; Notice Inviting Applications for New Emergency Repair Awards for Fiscal Year (FY) 2005

Catalogue of Federal Domestic Assistance (CFDA) Number: 84.041C.

Applications Available: June 13, 2005.

Deadline for Transmittal of Applications: August 5, 2005.

Deadline for Intergovernmental Review: October 4, 2005.

Eligible Applicants: To be eligible for an emergency repair grant, a local educational agency (LEA) must enroll a high percentage (at least 40 percent) of federally connected children in average daily attendance (ADA) who reside on Indian lands or who have a parent on active duty in the U.S. uniformed services, have a school that enrolls a high percentage of one of these types of students, or be eligible for funding for heavily impacted LEAs under section 8003(b)(2) of the Elementary and Secondary Education Act of 1965 (Act), as amended by the No Child Left Behind Act of 2001 (NCLB). In making emergency grant awards, the Secretary must also consider the LEA's total assessed value of real property that may be taxed for school purposes, its use of available bonding capacity, and the nature and severity of the school facility emergency.

In this notice, the Secretary is soliciting only applications for emergency repair grants. We will not accept applications for modernization grants at this time. Applications for emergency repair grants are considered in two priority categories. Detailed information about the eligibility requirements for these two priorities is in 34 CFR 222.177 through 222.179.

Except as provided in 34 CFR 222.190, all eligible applications in the “first priority” emergency category must be funded before applications in the next priority can be funded. As prescribed in section 8007(b)(5)(A)(vi) of the Act and the implementing regulations in 34 CFR 222.189(b)(4), unfunded applications in any of the four priorities are retained for one year and considered along with the following fiscal year's pool of applicants. For each of the FY 2002, 2003, and 2004 competitions, the number of fundable “first priority” emergency repair applications exceeded the funds available. Approximately 20 unfunded “first priority” emergency repair applications submitted for FY 2004 will be reconsidered for FY 2005 funding, along with new emergency repair applications submitted in response to this notice.

The Secretary will not subject “second priority” emergency repair applications to the panel review process if the need for funds in the first priority and the number of eligible applications received greatly exceeds the available appropriation. Should funds remain available for modernization awards following this competition, the Secretary will announce a separate competition for modernization grant applications.

Estimated Available Funds: $26,290,000.

Estimated Range of Awards: $50,000-$5,000,000.

Estimated Average Size of Awards: $1,500,000.

Estimated Number of Awards: 18.

Note: The Department is not bound by any estimates in this notice.

Project Period: We will determine each project period based on the project proposed and will specify this period in the grant award document.

Full Text of Announcement

I. Funding Opportunity Description

Purpose of Program: The Impact Aid Discretionary Construction Program provides grants to eligible Impact Aid school districts to assist in addressing their school facility emergency and modernization needs. The eligible Impact Aid school districts have a limited ability to raise revenues for capital improvements because they have large areas of Federal land within their boundaries. As a result, these districts find it difficult to respond when their school facilities are in need of emergency repairs or modernization.

Program Authority: 20 U.S.C. 7707(b).

Applicable Regulations: (a) The Education Department General Administrative Regulations (EDGAR) in 34 CFR parts 74, 75 (except for 34 CFR 75.600 through 75.617), 77, 79, 80, 82, 84, 85, 86, 97, 98, and 99. (b) The regulations for this program in 34 CFR part 222.

II. Award Information

Type of Award: Discretionary grants.

Estimated Available Funds: $26,290,000.

Estimated Range of Awards: $50,000-$5,000,000.

Estimated Average Size of Awards: $1,500,000.

Estimated Number of Awards: 18.

Note: The Department is not bound by any estimates in this notice.

Project Period: We will determine each project period based on the project proposed and will specify this period in the grant award document.

III. Eligibility Information

1. Eligible Emergency Repair Applicants: To be eligible for an emergency repair grant, an LEA must enroll a high percentage (at least 40 percent) of federally connected children in ADA who reside on Indian lands or who have a parent on active duty in the U.S. uniformed services, have a school that enrolls a high percentage of one of these types of students, or be eligible for funding for heavily impacted LEAs under section 8003(b)(2) of the Act. In making emergency grant awards, the Secretary must also consider the LEA's total assessed value of real property that may be taxed for school purposes, its use of available bonding capacity, and the nature and severity of the school facility emergency.

In this notice, the Secretary is soliciting only applications for emergency repair grants. We will not accept applications for modernization grants at this time. Applications for emergency repair grants are considered in two priority categories. Detailed information about the eligibility requirements for these two priorities is in 34 CFR 222.177 through 222.179.

Except as provided in 34 CFR 222.190, all eligible applications in the “first priority” emergency category must be funded before applications in the next priority can be funded. As prescribed in section 8007(b)(5)(A)(vi) of the Act and the implementing regulations in 34 CFR 222.189(b)(4), unfunded applications in any of the four priorities are retained for one year and considered along with the following fiscal year's pool of applicants. For each of the FY 2002, 2003, and 2004 competitions, the number of fundable “first priority” emergency repair applications exceeded the funds available. Approximately 20 unfunded “first priority” emergency repair applications submitted for FY 2004 will be reconsidered for FY 2005 funding, along with new emergency repair applications submitted in response to this notice.

The Secretary will not subject “second priority” emergency repair applications to the panel review process if the need for funds in the first priority and the number of eligible applications received greatly exceeds the available appropriation. Should funds remain available for modernization awards following this competition, the Secretary will announce a separate competition for modernization grant applications.

2. Cost Sharing or Matching: See 20 U.S.C. 7707(b) and 34 CFR 222.174 and 222.191 through 222.193. In reviewing proposed awards, the Secretary considers the funds available to the grantee from other sources, including local, State, and other Federal funds. Consistent with 34 CFR 222.192, applicants will be required to submit financial reports for FYs 2003, 2004, and 2005 showing closing balances for all school funds. If significant amounts are available at the close of FY 2005 that are not obligated for other purposes, those funds will be considered as available for the proposed emergency repair project, which may reduce or eliminate the award for an emergency grant.

Except for applicants with no practical capacity to issue bonds, as defined in 34 CFR 222.176, an eligible applicant's award amount may not be more than 50 percent of the total cost of an approved project and it may not exceed four million dollars during any four-year period. As outlined in 34 CFR 222.174, this program also involves supplement, not supplant funding provisions.

IV. Application and Submission Information

1. Address to Request Application Package: Marilyn Hall, U.S. Department of Education, 400 Maryland Avenue, SW., room 3C153, Washington, DC 20202-6244. Telephone: (202) 260-3858. You can also download the FY 2005 application forms at: http://www.ed.gov/programs/8007b/applicant. An electronic application is available at: http://e-grants.ed.gov.

If you use a telecommunications device for the deaf (TDD), you may call the Federal Relay Service (FRS) at 1-800-877-8339.

Individuals with disabilities may obtain a copy of the application package in an alternative format (e.g., Braille, large print, audiotape, or computer diskette) by contacting the program contact person listed in this section.

2. Content and Form of Application Submission:

a. Content Restrictions: The application narrative should provide concise information on the nature of the emergency condition, including detail of the facilities system(s) that require emergency repair and how they adversely affect the health, safety, and well-being of occupants, the scale of the project in relation to the size of the school facility, and cost estimates to address the conditions. This information should be succinct and well-organized. Applications should not include drawings, designs, or other extraneous documents regarding proposed projects, because reviewers will not consider them.

b. Page Limit: We have found that reviewers are able to conduct the highest-quality review when applications are concise and easy to read. We strongly recommend that applicants limit their response in each applicable narrative section to two pages.

c. Other: Other requirements concerning the content of an application, together with the forms you must submit, are in the application package for this program.

3. Submission Dates and Times:

Applications Available: June 13, 2005.

Deadline for Transmittal of Applications: August 5, 2005.

Applications for grants under this competition may be submitted electronically using the Electronic Grant Application System (e-Application) accessible through the Department's e-Grants system, or in paper format by mail or hand delivery. For information (including dates and times) about how to submit your application electronically, or by mail or hand delivery, please refer to section IV. 6. Other Submission Requirements in this notice.

We do not consider an application that does not comply with the deadline requirements.

Deadline for Intergovernmental Review: October 4, 2005.

4. Intergovernmental Review: This program is subject to Executive Order 12372 and the regulations in 34 CFR part 79. Information about Intergovernmental Review of Federal Programs under Executive Order 12372 is in the application packages for this program.

5. Funding Restrictions: We specify unallowable costs in 34 CFR 222.173. Grant recipients must, in accordance with Federal, State and local laws, use emergency grants for permissible construction activities at public elementary and secondary school facilities. The scope of a selected facilities project will be identified as part of the final grant award conditions. A grantee must also ensure that its construction expenditures under this program meet the requirements of 34 CFR 222.172 (allowable program activities) and 34 CFR 222.173 (prohibited activities). We reference additional regulations outlining funding restrictions in the Applicable Regulations section of this notice.

6. Other Submission Requirements:

Applications for grants under this competition may be submitted electronically or in paper format by mail or hand delivery.

a. Electronic Submission of Applications.

If you choose to submit your application to us electronically, you must use e-Application available through the Department's e-Grants system, accessible through the e-Grants portal page at: http://e-grants.ed.gov.

While completing your electronic application, you will be entering data online that will be saved into a database. You may not e-mail an electronic copy of a grant application to us.

Please note the following:

• Your participation in e-Application is voluntary.

• You must complete the electronic submission of your grant application by 4:30 p.m., Washington, DC time, on the application deadline date. The e-Application system will not accept an application for this competition after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you submit your application in paper format.

• You must submit all documents electronically, including the Application for Discretionary Construction Program under Section 8007(b), and all necessary assurances and certifications.

• Any narrative sections of your application must be attached as files in a .DOC (document), .RTF (rich text), or .PDF (Portable Document) format.

• Your electronic application must comply with any page limit requirements described in this notice.

• Prior to submitting your electronic application, you may wish to print a copy of it for your records.

• After you electronically submit your application, you will receive an automatic acknowledgement that will include a PR/Award number (an identifying number unique to your application).

• Within three working days after submitting your electronic application, mail a signed copy of the Application for Discretionary Construction Program under Section 8007(b) to the Impact Aid Program after following these steps:

(1) Print the Application for Discretionary Construction Program under Section 8007(b) from e-Application.

(2) The LEA's Authorized Representative must sign this form on the cover page and on all of the assurances pages. The local certifying official must sign the certification in an emergency application.

(3) Place the PR/Award number in the upper right hand corner of the hard copy cover page of the Application for Discretionary Construction Program under Section 8007(b).

(4) Mail the signed Application for Discretionary Construction Program under Section 8007(b) to the Impact Aid Program at the address listed under FOR FURTHER INFORMATION CONTACT elsewhere in this notice (see VII. Agency Contact).

• We may request that you provide us original signatures on other forms at a later date.

Application Deadline Date Extension in Case of System Unavailability: If you are prevented from electronically submitting your application on the application deadline date because the e-Application system is unavailable, we will grant you an extension of one business day in order to transmit your application electronically, by mail, or by hand delivery. We will grant this extension if—

(1) You are a registered user of e-Application and you have initiated an electronic application for this competition; and

(2)(a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-Grants help desk at 1-888-336-8930. If the system is down and therefore the application deadline is extended, an e-mail will be sent to all registered users who have initiated an e-Application.

Extensions referred to in this section apply only to the unavailability of the Department's e-Application system. If the e-Application system is available, and, for any reason, you are unable to submit your application electronically or you do not receive an automatic acknowledgement of your submission, you may submit your application in paper format by mail or hand delivery in accordance with the instructions in this notice.

b. Submission of Paper Applications by Mail.

If you submit your application in paper format by mail (through the U.S. Postal Service or a commercial carrier), you must mail the original and two copies of your application, on or before the application deadline date, to the Impact Aid Program at the address listed under FOR FURTHER INFORMATION CONTACT elsewhere in this notice (see VII. Agency Contact).

You must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Impact Aid Program at the address listed under FOR FURTHER INFORMATION CONTACT elsewhere in this notice (see VII. Agency Contact). We will accept hand deliveries daily between 8 a.m. and 4:30 p.m., Washington, DC time, except Saturdays, Sundays, and Federal holidays.

V. Application Review Information

1. Selection Criteria: Consistent with 34 CFR 75.209, the selection criteria for this program are based on the specific statutory program elements identified in 34 CFR 222.183 through 222.187 and are described in the following paragraphs.

The Secretary gives distinct weight to the listed selection criteria. The maximum score for each criterion is indicated in parentheses. Within each criterion, the Secretary evaluates each factor equally, unless otherwise specified. The maximum score that an application may receive is 100 points.

(1) Need for project/severity of the school facility problem to be addressed by the proposed project. (up to 30 points)

(a) Justification that the proposed project will address a valid emergency; and consistency of the emergency description and the proposed project with the certifying local official's statement.

(b) Impact of the emergency condition on the health and safety of the building occupants or on program delivery (examples: the systems or areas of the facility involved, e.g., HVAC, roof, floor, windows); the type of space affected, such as instructional, resource, food service, recreational, general support, or other areas; the percentage of building occupants affected by the emergency; and the importance of the facility or affected area to the instructional program.

(2) Project Urgency. (up to 28 points)

(a) Risk to occupants if the facility condition is not addressed; projected increased future costs; effect of the proposed project on the useful life of the facility or the need for major construction; or age and condition of the facility and date of last renovation of affected areas.

(b) The justification for rebuilding, if proposed.

(3) Effects of Federal Presence. (up to 30 points total)

(a) Amount of non-taxable Federal property in the applicant district (percentage of Federal property divided by 10); (up to 10 points)

(b) The number of federally connected children identified in sections 8003(a)(1)(A), (B), (C), and (D) of the Act in the LEA (percentage of identified children in LEA divided by 10); (up to 10 points)

(c) The number of federally connected children identified in sections 8003(a)(1)(A), (B), (C), and (D) of the Act in the school facility (percentage of identified children in school facility divided by 10); (up to 10 points)

(4) Ability to respond or pay. (up to 12 points total)

(a) The percentage an LEA has used of its bonding capacity. Four points will be distributed based on the LEA's quartile so that an LEA that has used 100 percent of its bonding capacity receives all four points and an LEA that has used less than 25 percent of its bond limit receives only one point. LEAs that do not have limits on bonded indebtedness established by their States will be evaluated by assuming that their bond limit is 10 percent of the assessed value of real property in the LEA. LEAs deemed to have no practical capacity to issue bonds will receive all four points. (up to 4 points)

(b) Assessed value of real property per student (applicant LEA's total assessed valuation of real property per pupil as a percentile ranking of all LEAs in the State. Four points will be distributed by providing all four points to LEAs in the poorest quartile and only one point to LEAs in the wealthiest quartile). (up to 4 points)

(c) Total tax rate for capital or school purposes (applicant LEA's tax rate for capital or school purposes as a percentile ranking of all LEAs in the State. If the State authorizes a tax rate for capital expenditures, then these data must be used; otherwise, data on the total tax rate for school purposes are used. Four points will be distributed by providing all four points to LEAs in the highest taxing quartile and only one point to LEAs in the lowest quartile). (up to 4 points)

2. Review and Selection Process: Upon receipt, Impact Aid program staff will screen all applications to identify any that should not be included in the panel review process. Applications that do not meet the eligibility standards or are incomplete or late will be rejected. Program staff will also calculate the objective scores for each application under criteria (3) and (4). Panel reviewers will assess the applications under criteria (1) and (2).

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118 and 34 CFR 222.195. In general, grantees must comply with applicable reporting requirements in 34 CFR parts 75 and 80. In addition, grantees will be required to provide periodic performance and financial reports, as specified in individual grant award conditions and 34 CFR 222.195.

4. Performance Measures: The Department has established the following performance measure for this program: an increasing percentage of LEAs receiving Impact Aid Construction funds will report that the overall condition of their school buildings is adequate. Data for this measure will be reported to the Department on Table 10 of the application for Impact Aid Section 8003 Basic Support Payments.

VII. Agency Contact

FOR FURTHER INFORMATION CONTACT: Marilyn Hall, Impact Aid Program, U.S. Department of Education, 400 Maryland Avenue, SW., room 3C153, Washington, DC 20202-6244. Telephone: (202) 260-3858 or by e-mail: Impact.Aid@ed.gov

If you use a telecommunications device for the deaf (TDD), you may call the Federal Relay Service (FRS) at 1-800-877-8339.

Individuals with disabilities may obtain this document in an alternative format (e.g., Braille, large print, audiotape, or computer diskette) by contacting the program contact person listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: June 1, 2005.
Raymond Simon,
Assistant Secretary for Elementary and Secondary, Education.

[FR Doc. 05-11190 Filed 6-3-05; 8:45 am]

BILLING CODE 4000-01-P